DEPARTMENT OF DEFENSE

Office of the Secretary

Defense Science Board Meeting

AGENCY: Department of Defense.

ACTION: Notice of Advisory Committee Meeting; Defense Science Board Task Force on Roles and Authorities of the Director of Defense Research and Engineering.

SUMMARY: The Defense Science Board Task Force on Roles and Authorities of the Director of Defense Research and Engineering will meet in closed session on July 28, 2005, at SAI, 3601 Wilson Boulevard, Arlington, VA. The Task Force will examine the past and current roles and authorities for the Director of Defense Research and Engineering (DDR&E).

The mission of the Defense Science Board is to advise the Secretary of Defense and the Under Secretary of Defense for Acquisition, Technology & Logistics on scientific and technical matters as they affect the perceived needs of the Department of Defense. At these meetings, the Task Force will review and evaluate concepts to determine appropriate future roles and authorities of the DDR&E including an analysis of the relationship of the Director to other senior science and technology (S&T) and acquisition officials of the military departments and the Defense Agencies; the relationship of the Director to the performance of the following functions: planning, programming, and budgeting of the S&T programs of the DoD; management of DoD laboratories and technical centers; promotion of the rapid transition of technologies to acquisition programs within the DoD; promotion of the transfer of technologies into and from the commercial sector; the coordination of DoD S&T activities with organizations outside the DoD; technical review of DoD acquisition programs and policies; training and education activities for the national scientific and technical workforce; development of science and technology policies and programs relating to the maintenance of the national technology and industrial base; and the development of new technologies in support of the transformation of the Armed Forces. The Task Force will also examine the duties of the Director as the Chief Technology Office of the DoD.

DATES: July 28, 2005.

ADDRESSES: SAI, 3601 Wilson Boulevard, Arlington, VA.

FOR FURTHER INFORMATION CONTACT: LTC Scott Dolgoff, USA, Defense Science Board, 3140 Defense Pentagon, Room 3D865, Washington, DC 20301-3140, via email at scott.dolgoff@osd.mil, or via phone at (703) 695-4158.

Dated: June 24, 2005.
Jeannette Owings-Ballard,
OSD Federal Register Liaison Officer, Department of Defense.

[FR Doc. 05-13007 Filed 6-30-05; 8:45 am]

BILLING CODE 5001-06-P